DEPARTMENT OF HEALTH AND HUMAN SERVICES

Centers for Disease Control and Prevention

[60Day-10-0733]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Early Hearing Detection and Intervention Hearing Screening and Follow-up Survey, (OMB #0920-0733 exp. 10/31/2009)—Reinstatement with changes—National Center on Birth Defects and Developmental Disabilities (NCBDDD), Centers for Disease Control and Prevention (CDC).

Background and Brief Description

The National Center on Birth Defects and Developmental Disabilities at CDC promotes the health of babies, children, and adults with disabilities. As part of these efforts the Center is actively involved in addressing hearing loss (HL) among newborns and infants. HL is a common birth defect that affects approximately 12,000 infants each year and, when left undetected, can result in developmental delays. As awareness about infant HL increases, so does the demand for accurate information about rates of screening, referral, loss to follow-up, and incidence. This information is important for helping to ensure infants and children are receiving recommended screening and follow-up services, documenting the occurrence and etiology of differing degrees of HL among infants, and determining the overall impact of infant HL on future outcomes, such as cognitive development, and family dynamics. These data will also assist state Early Hearing Detection and Intervention (EHDI) programs with quality improvement activities and provide information that will be helpful in assessing the impact of federal initiatives. The public will be able to access this information via the CDC EHDI Web site (http://www.cdc.gov/ncbddd/ehdi/data.htm).

Given the lack of a standardized and readily accessible source of data, the CDC EHDI program developed a survey to be used annually that utilizes uniform definitions to collect aggregate, standardized EHDI data from states and territories. The request to complete this survey is planned to be disseminated to respondents via an e-mail, which will include a summary of the request and other relevant information. Minor changes to this survey, based on respondent feedback, are planned in order to make the survey easier to complete and further improve data quality. These changes include splitting the previously combined questions about the number of infants that died and parents refused into two separate questions, adding a question about how many infants with hearing loss are receiving only monitoring services, simplifying the table for reporting type and severity of hearing loss data, and expanding the maternal race categories in the demographic section.

There are no costs to the respondents other than their time.

Estimated Annualized Burden Hours
Respondents | Number of respondents | Number of responses per respondent | Average burden per response (in hours) | Total burden (in hours)
State and territory EHDI Program Coordinators: Those who review survey instructions | 57 | 1 | 10/60 | 10
State and territory EHDI Program Coordinators: Those who complete the survey | 50 | 1 | 4 | 200

Dated: April 7, 2010.
Maryam I. Daneshvar,
Acting Reports Clearance Officer, Centers for Disease Control and Prevention.

[FR Doc. 2010-8480 Filed 4-13-10; 8:45 am]

BILLING CODE 4163-18-P